NATIONAL FOUNDATION ON THE ARTS AND THE HUMANITIES

Sunshine Act Meeting of the National Museum Services Board

AGENCY: Institute of Museum and Library Services.

ACTION: Notice of meeting.

SUMMARY: This notice sets forth the agenda of a forthcoming meeting of the National Museum and Library Services Board. This notice also describes the function of the board. Notice of this meeting is required under the Sunshine in Government Act.

Time/Date: 1:30 a.m.-4:30 p.m. on Thursday, January 8, 2004.

Status: Open.

ADDRESSES: San Diego Museum of Natural History, 1450 El Prado, San Diego, CA, (619) 696-1935.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum and Library Services Board is established under the Museum and Library Services Act, 20 U.S.C. Section 9101 et seq., advises the Director of the Institute on general policies with respect to the duties, powers, and authorities related to Museum and Library Services.

The meeting on Thursday, January 8, 2004 will be open to the public. If you need special accommodations due to a disability, please contact: Institute of Museum and Library Services, 1100 Pennsylvania Avenue, NW., Washington, DC 20506—(202) 606-8536—TDD (202) 606-8636 at least seven (7) days prior to the meeting date.

Agenda

1st Meeting of the National Museum and Library Services Board at San Diego Museum of Natural History, 1450 El Prado, San Diego, CA

Thursday, January 8, 2004.

1:30 p.m.-2:30 p.m.

I. Welcome

II. Ratification of Minutes from the 87th NMSB Meeting

III. Opening Remarks

IV. Carla Hayden, President, ALA Welcomes Board

V. Committee Reports

2:30 p.m.-2:45 p.m. Break

2:45 p.m.-4:15 p.m. Dialogue on Creating and Sustaining a Nation of Learners—San Diego Perspectives:

Mick Hager, Director of the San Diego Natural History Museum

Jeffery Kirsch, Director of the Reuben H. Fleet Science Center

Hugh Davies, Director of the Museum of Contemporary Art

Anna Tatar, Director of San Diego Public Library

4:15 p.m.-4:30 p.m. Other business

4:30 p.m. Adjourn

Dated: December 22, 2003.
Teresa LaHaie,
Administrative Officer, National Foundation on the Arts and Humanities, Institute of Museum and Library Services.

[FR Doc. 03-32003 Filed 12-23-03; 12:17 pm]

BILLING CODE 7036-01-M